FARM CREDIT ADMINISTRATION

12 CFR Part 652

RIN 3052-AC83

Federal Agricultural Mortgage Corporation Funding and Fiscal Affairs; Farmer Mac Liquidity Management

AGENCY: Farm Credit Administration.

ACTION: Notice of effective date.

SUMMARY: The Farm Credit Administration (FCA, we or us) adopted a final rule that amends its liquidity management regulations for the Federal Agricultural Mortgage Corporation (Farmer Mac). The purpose of the final rule is to strengthen liquidity risk management at Farmer Mac, improve the quality of assets in its liquidity reserves, and bolster its ability to fund its obligations and continue operations during times of economic, financial, or market adversity. In accordance with the law, the effective date of the final rule is 180 days after the date of publication in the Federal Register, provided either or both Houses of Congress are in session for at least 30 calendar days after publication of this regulation in the Federal Register.

DATES: Effective Date: Under the authority of 12 U.S.C. 2252, the regulation amending 12 CFR part 652 published on November 1, 2013 (78 FR 65541) is effective April 30, 2014.

FOR FURTHER INFORMATION CONTACT:

Joseph T. Connor, Associate Director for Policy and Analysis, Office of Secondary Market Oversight, Farm Credit Administration, McLean, VA 22102-5090, (703) 883-4280, TTY (703) 883-4056; or

Richard A. Katz, Senior Counsel, Office of General Counsel, Farm Credit Administration, McLean, Virginia 22102-5090, (703) 883-4020, TTY (703) 883-4056.

SUPPLEMENTARY INFORMATION: The Farm Credit Administration (FCA, we or us) adopted a final rule that amends its liquidity management regulations for the Federal Agricultural Mortgage Corporation (Farmer Mac). The purpose of the final rule is to strengthen liquidity risk management at Farmer Mac, improve the quality of assets in its liquidity reserves, and bolster its ability to fund its obligations and continue operations during times of economic, financial, or market adversity. In accordance with 12 U.S.C. 2252, the effective date of the final rule is 180 days after the date of publication in the Federal Register, provided either or both Houses of Congress are in session for at least 30 calendar days after publication of this regulation in the Federal Register. Based on the records of the sessions of Congress, the effective date of the regulations is April 30, 2014.

(12 U.S.C. 2252(a)(9) and (10))

Dated: May 15, 2014.
Dale L. Aultman,
Secretary, Farm Credit Administration Board.

[FR Doc. 2014-11663 Filed 5-20-14; 8:45 am]

BILLING CODE 6705-01-P